DEPARTMENT OF ENERGY

Federal Energy Regulatory Commission

[Docket No. EL14-12-002]

Notice Setting Deadlines To File Briefs

Association of Businesses Advocating Tariff Equity, Coalition of MISO Transmission Customers, Illinois Industrial Energy Consumers, Indiana Industrial Energy Consumers, Inc., Minnesota Large Industrial Group, Wisconsin Industrial Energy Group v. Midcontinent Independent System Operator, Inc., ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC MidAmerican Energy Company, Montana-Dakota Utilities Co., Northern Indiana Public Service Company, Northern States Power Company-Minnesota, Northern States Power Company-Wisconsin, Otter Tail Power Company, Southern Indiana Gas & Electric Company

On January 5, 2016, Arkansas Electric Cooperative Corporation; Mississippi Delta Energy Agency and its members, Clarksdale Public Utilities Commission of the City of Clarksdale, Mississippi and Public Service Commission of Yazoo City, Mississippi; Hoosier Energy Rural Electric Cooperative, Inc.; and South Mississippi Electric Power Association filed a motion for clarification regarding the submission of briefs on exceptions, in the above-referenced proceeding (Motion). On January 8, 2016, MISO Transmission Owners filed an answer to the Motion. Notice is hereby given that the deadline for submitting briefs on exceptions is set to and including January 21, 2016. The deadline to file briefs opposing exceptions is set to and including February 10, 2016.

Dated: January 11, 2016.
Nathaniel J. Davis, Sr.,
Deputy Secretary.

[FR Doc. 2016-00704 Filed 1-14-16; 8:45 am]

BILLING CODE 6717-01-P